DEPARTMENT OF COMMERCE

National Institute of Standards and Technology

[Docket No. 191126-0092]

Request for Information Regarding the Interagency Edison System for Reporting Federally Funded Inventions

AGENCY: National Institute of Standards and Technology, Department of Commerce.

ACTION: Notice; Request for Information (RFI).

SUMMARY: The National Institute of Standards and Technology (NIST) has been delegated responsibility by the Secretary of Commerce to promulgate regulations concerning the management and licensing of federally funded inventions. Under the Lab-to-Market Cross Agency Priority (CAP) goal co-led with the White House's Office of Science and Technology Policy (OSTP), NIST is initiating an effort to advance the President's Management Agenda and modernize government for the 21st century by assuming the responsibility for and rebuilding the Interagency Edison (iEdison) system for reporting extramural inventions created with federal funding. NIST requests information from the public regarding the current state of the iEdison system, including, but not limited to, specific challenges and recommended improvements. The information received in response to this RFI will inform NIST in developing a redesigned iEdison.

DATES: Comments must be received by 5:00 p.m. Eastern time on January 27, 2020. Written comments in response to the RFI should be submitted according to the instructions in the SUPPLEMENTARY INFORMATION section below. Submissions received after that date will be considered to the extent practicable.

ADDRESSES: Electronic comments regarding the RFI should be addressed to Dr. Courtney Silverthorn by email to courtney.silverthorn@nist.gov.

FOR FURTHER INFORMATION CONTACT: Dr. Courtney Silverthorn, Deputy Director, Technology Partnerships Office, National Institute of Standards and Technology, Technology Partnerships Office, 100 Bureau Drive, MS 2200, Gaithersburg, MD 20899, 301-975-4189, or by email to courtney.silverthorn@nist.gov.

SUPPLEMENTARY INFORMATION:

I. Background

The Federal Government invests approximately $100B each year in extramural research and development at universities, non-profits, and small and large businesses.¹ This results in the creation of thousands of inventions annually, which are required to be reported to the funding agency.² Many agencies use the Interagency Edison (iEdison) system,³ a web-based platform that allows awardees to report federally funded subject inventions, elect rights, request extensions of time requirements, request waivers, demonstrate progress, inform the government of its limited use rights, upload requested documents, and perform other reporting tasks as required by their funding agency. First developed in 1995, the platform is currently used by 32 funding agencies and is hosted by the National Institutes of Health (NIH).

¹ National Center for Science and Engineering Statistics. Survey of Federal Funds for Research and Development: Fiscal Years 2016-2017. Available at: https://www.nsf.gov/statistics/srvyfedfunds/.

² 37 CFR 401.14.

³ https://public.era.nih.gov/iedison/public/login.do.

A 2016 report from the National Academies of Science ⁴ highlighted a number of systemic challenges inherent in the current iEdison platform that have impeded data entry and reporting compliance. The challenges described in the report include the following topics paraphrased below:

⁴ National Academies of Sciences, Engineering, and Medicine. 2016. Optimizing the Nation's Investment in Academic Research: A New Regulatory Framework for the 21st Century. Washington, DC: The National Academies Press. https://doi.org/10.17226/21824.

• Inadequate staffing and funding

• Cumbersome reporting procedures due to (i) gated features preventing further action if certain requirements are left incomplete, (ii) requiring greater data specificity than that which is required by law, (iii) frequent reporting over the life of even unlicensed patents, and (iv) a complicated document uploading process

• Inconsistent use and reporting requirements amongst funding agencies

Comments received in response to prior Requests for Information on related topics such as rights to federally funded inventions and licensing of government owned inventions ⁵ as well as federal technology transfer authorities and processes,⁶ have noted similar concerns from the public. Addressing these challenges by modernizing the iEdison system to create a secure, interoperable platform that is easy to access, analyze, and use will help reduce administrative burdens on awardees, while further protecting public investment in extramural research and development.

⁵ “Rights to Federally Funded Inventions and Licensing of Government Owned Inventions,” 81 Federal Register 78090 (7 November 2016), pp. 78090-78097. Available at: https://www.federalregister.gov/documents/2016/11/07/2016-25325/rights-to-federally-funded-inventions-and-licensing-of-government-owned-inventions.

⁶ “Request for Information Regarding Federal Technology Transfer Authorities and Processes,” 83 Federal Register 19052 (1 May 2018), pp. 19052-19054. Available at: https://www.federalregister.gov/documents/2018/05/01/2018-09182/request-for-information-regarding-federal-technology-transfer-authorities-and-processes.

As part of the Lab-to-Market CAP goal ⁷ to “support innovative tools and services for technology transfer”, NIST and OSTP have identified a rebuild of the iEdison system as a strategic priority. The rebuild will address transferring the management of iEdison operations from NIH to NIST, implementing Recommendation 10.1 of the 2016 National Academies report. NIST, to which the Secretary of Commerce has delegated responsibility for promulgating regulations implementing the Bayh-Dole Act pertaining to the management and licensing of federally funded inventions, is well-positioned to manage the iEdison platform and to implement changes on an on-going basis.

⁷ Copan, W. and Kratsios, M. (2018). Lab to Market: Cross Agency Priority Goal Quarterly Progress Update, September 2019. Available at: https://www.performance.gov/CAP/action_plans/sept_2019_Lab_to_Market.pdf.

The objectives for the rebuild of the system are to:

• Modernize the technology stack and provide increased system security

• Re-examine and streamline the system to align with regulatory requirements

• Improve user experience and facilitate user compliance with reporting requirements

• Improve the presentation of pertinent information requiring user action

To respond to this RFI, please submit written comments by email to Dr. Courtney Silverthorn at courtney.silverthorn@nist.gov in any of the following formats: ASCII; Word; RTF; or PDF. Please include your name, organization's name (if any), and cite “iEdison RFI” in the subject line of all correspondence.

II. Request for Information

All responses that comply with the requirements listed in the DATES and ADDRESSES sections of this RFI will be considered.

All submissions, including attachments and other supporting materials, will become part of the public record and subject to public disclosure. NIST reserves the right to publish comments publicly, unedited and in their entirety. Sensitive personal information, such as account numbers or Social Security numbers, or names of other individuals, should not be included. Submissions will not be edited to remove any identifying or contact information. Do not submit confidential business information, or otherwise sensitive or protected information. Comments that contain profanity, vulgarity, threats, or other inappropriate language or content will not be considered.

The following list of topics covers the major areas about which NIST seeks information. The listed areas are not intended to limit the topics that may be addressed by respondents so long as they address the iEdison system, including, but not limited to, specific challenges and recommended improvements. Responses may include any topic believed to have implications for NIST's development of a redesigned iEdison, regardless of whether the topic is included in this document.

NIST is specifically interested in receiving input from the extramural community pertaining to the following questions:

(1) What, if any, current features of iEdison does your organization believe should be retained in any updated version?

(2) What challenges, if any, is your organization experiencing in reporting inventions in the iEdison system? Where practicable, please provide specific descriptions and/or screenshots of user interface screens or error messages.

(3) What improvements could be made to the iEdison system that would reduce your organization's reporting burdens, improve its experience, and facilitate your organization's ability to comply with reporting requirements?

Authority: 35 U.S.C. 202(c); DOO 30-2A.

Kevin A. Kimball,
Chief of Staff.

[FR Doc. 2019-26860 Filed 12-12-19; 8:45 am]

BILLING CODE 3510-13-P